DEPARTMENT OF HEALTH AND HUMAN SERVICES

Health Resources and Services Administration

Rural Health Network Development Program

AGENCY: Health Resources and Services Administration (HRSA), HHS.

ACTION: Notice of Non-competitive Replacement Award to Siloam Springs Regional Health Cooperative, Inc.

SUMMARY: The Health Resources and Services Administration (HRSA) is issuing a non-competitive replacement award under the Rural Health Network Development Program to the Siloam Springs Regional Health Cooperative, Inc. This non-competitive replacement award will continue activities to improve the treatment and prevention of chronic disease, increase provider knowledge and effective use of health information technology and perform network development activities to ensure the sustainability and viability of a rural health network in order to serve rural, medically underserved residents in rural, northwest Arkansas and northeast Oklahoma.

SUPPLEMENTARY INFORMATION: Former Grantee of Record: ARcare.

Original Period of Grant Support: May 1, 2011, to April 30, 2014.

Replacement Awardee: Siloam Springs Regional Health Cooperative, Inc.

Amount of Replacement Award: $179,748.

Period of Replacement Award: The period of support for this award is October 1, 2012, to April 30, 2014.

Authority: Section 330A(f) of the Public Health Service Act (42 U.S.C. 254(c)(f), as amended.

Catalog of Federal Domestic Assistance Number: 93.912.

Justification for the Exception to Competition: The primary goals of the project funded through the Rural Health Network Development Grant Program are to improve the capacity of network members to treat and prevent chronic disease, increase provider knowledge and effective use of health information technology, and strengthen network sustainability. The current grantee, ARcare, was originally awarded the Rural Health Network Development Grant D06RH21666 on May 1, 2011, to serve as the grantee of record representing the rural health network serving counties in northwest Arkansas and northeast Oklahoma. Since May 1, 2011, the Siloam Springs Regional Health Cooperative, Inc. (SSRHC), an organization composed of the participating network members, was primarily responsible for administering the program activities of the Rural Health Network Development Project. SSRHC has now obtained 501(c)3 status; and ARcare notified HRSA that, while they will remain involved in the project, they would like to relinquish their responsibilities as grantee of record to SSRHC to ensure efficient administration of the award and strengthen the Network's future viability and growth. SSRHC has demonstrated a history of successfully managing and achieving project goals and now has the organizational structure to support the fiscal management responsibilities of the grant. This replacement award will enable SSRHC to expand access to, coordinate, and improve the quality of essential health care services in the medically underserved counties of northwest Arkansas and northeast Oklahoma.

FOR FURTHER INFORMATION CONTACT: Leticia Manning, Public Health Analyst, Office of Rural Health Policy, Health Resources and Services Administration, Room 5A-55, 5600 Fishers Lane, Rockville, Maryland 20857; (301) 443-8335; email Leticia.Manning@hrsa.hhs.gov.

Dated: October 4, 2012.
Mary K. Wakefield,
Administrator.

[FR Doc. 2012-25195 Filed 10-11-12; 8:45 am]

BILLING CODE 4165-15-P